DEPARTMENT OF HEALTH AND HUMAN SERVICES

Centers for Medicare & Medicaid Services

[Document Identifier: CMS-10054, CMS-R-118 and CMS-10246]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension without change of a currently approved collection; Title of Information Collection: Recognition of payment for new technology services for New Technology ambulatory payment classification (APC) groups under the Outpatient Prospective Payment System and Supporting Regulations in 42 CFR part 419; Use: CMS needs to keep pace with emerging new technologies and make them accessible to Medicare beneficiaries in a timely manner. It is necessary that CMS continue to collect appropriate information from interested parties such as hospitals, medical device manufacturers, pharmaceutical companies and others that bring to CMS' attention specific services that they wish us to evaluate for New Technology APC payment. The information that CMS seeks to continue to collect is necessary to determine whether certain new services are eligible for payment in New Technology APCs, to determine appropriate coding and to set an appropriate payment rate for the new technology service. The intent of these provisions is to ensure timely beneficiary access to new and appropriate technologies. Interested parties such as hospitals, device manufacturers, pharmaceutical companies, and physicians use this information to apply for New Technology APC payments for certain services covered in the Outpatient Prospective Payment System. Form Numbers: CMS-10054 (OMB #: 0938-0860); Frequency: Reporting—Once; Affected Public: Business or other for-profits; Number of Respondents: 15; Total Annual Responses: 15; Total Annual Hours: 180.

2. Type of Information Collection Request: Reinstatement without change of a previously approved collection; Title of Information Collection: Quality Improvement (formerly Peer Review) Organization Contracts: Solicitation of Statements of Interest from In-State Organizations, General Notice and Supporting Regulations in 42 CFR, 475.102, 475.103, 475.104, 475.105, 475.106; Use: The criteria that an organization must satisfy in order to be eligible for a Medicare Quality Improvement Organization (QIO) contract are specified by law and set forth in sections 1152 and 1153 of the Social Security Act (the Act). In very basic terms, the applicant organization must demonstrate that it is either a physician-sponsored or physician-access organization. The qualifications for in-State status for an otherwise qualified QIO organization are also set forth in section 1153(i)(3) of the Act.

To comply with section 1153 of the Act, we must publish the solicitation of statements of interest from qualified in-State organizations no later than January 31, 2008. We wish to publish notice of contract expiration dates and the time periods during which interested, qualified organizations may submit statements of interest and proposals for these contracts substantially sooner than the January 2008 deadline, in order to give maximal notice and opportunity to all qualified and potentially interested organizations. We are soliciting information in the form of responses to our request for statements of interest from qualified in-State organizations who may wish to compete for the QIO contracts for their respective States. The responses should contain an indication of interest and information demonstrating the interested organizations' eligibility to qualify as a QIO under the requirements of sections 1152 and 1153 of the Act. Form Number: CMS-R-118 (OMB #: 0938-0526); Frequency: Reporting—On occasion; Affected Public: Business or other for-profit; Number of Respondents: 53; Total Annual Responses: 53; Total Annual Hours: 1.

3. Type of Information Collection Request: New collection; Title of Information Collection: Cost and Resource Utilization (CRU) Data Collection for the Medicare Post Acute Care Payment Reform Demonstration; Use: The CRU data collection is part of the Post-Acute Care Payment Reform Demonstration mandated by Section 5008 of the Deficit Reduction Act of 2005. This demonstration is intended to address problems with the current Medicare payment systems for post-acute care services, including those for Long Term Care Hospitals, Inpatient Rehabilitation Facilities, Skilled Nursing Facilities, and Home Health Agencies. Each of these four types of providers currently has a separate prospective payment system (PPS) with its own case-mix groups, payment units, and rates. Each case-mix grouper uses a unique set of items to measure patients, making it difficult to compare severity, costs, and outcomes across settings. These four provider types form a continuum of care where patients may overlap in terms of the conditions being treated, but they primarily differ in terms of the severity of the patients' medical or functional impairments. The current payment methods are designed as silos that do not recognize the potential overlap in case mix or the complimentary nature of the services across an episode, nor does it allow for standardized measures of costs across settings since each PPS was developed independently using different measurement systems and underlying assumptions.

The Post-Acute Care Payment Reform Demonstration will examine the relative costliness and outcomes of post acute cases admitted to different settings for similar conditions. The work will differ from past attempts in this area because it will use a standardized case mix tool for measuring patient severity and a standardized resource data collection tool in all four post acute settings. Specifically, the legislation requires that CMS provide information on both the fixed and variables costs for each individual treated in post acute care settings.

The CRU data collection instruments are designed to collect a provider's routine costs to specific patients because in general, nurses' and many other direct care providers' time spent on behalf of specific patients and on activities not patient-specific, is not reported. In addition, charges for therapist services reported on claims may not sufficiently measure true relative differences in therapy resource costs among patients. The data will be used, along with Medicare claims and cost report data, to examine substitution issues: how do costs and outcomes differ for post acute care patients with similar case mix acuity when treated in one of the various settings. The results will be used to provide CMS and the Congress information on setting-neutral payment models, revisions to single setting payment systems, current discharge placement patterns, and patient outcomes across settings.

Since the August 24, 2007, Federal Register notice (72 FR 48645), we have made minor changes to the CRU instrument in response to public comments and internal review. The changes are primarily wording changes and direction clarifications. These changes are not expected to impact the data collection burden. Form Number: CMS-10246 (OMB #: 0938-New); Frequency: Reporting and Recordkeeping; Affected Public: Private Sector—Business or other for-profits and not-for-profit institutions; Number of Respondents: 138; Total Annual Responses: 61,589; Total Annual Hours: 28,783.

To obtain copies of the supporting statement and any related forms for the proposed paperwork collections referenced above, access CMS Web site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB desk officer at the address below, no later than 5 p.m. on December 31, 2007.

OMB Human Resources and Housing Branch, Attention: Carolyn Lovett, New Executive Office Building, Room 10235, Washington, DC 20503, Fax Number: (202) 395-6974.

Dated: November 21, 2007.
Michelle Shortt,
Director, Regulations Development Group, Office of Strategic Operations and Regulatory Affairs.

[FR Doc. E7-23163 Filed 11-28-07; 8:45 am]

BILLING CODE 4120-01-P